DEPARTMENT OF ENERGY

Federal Energy Regulatory Commission

Notice of FERC Staff Attendance

June 8, 2009.

Midwest Independent Transmission System Operator, Inc. | Docket No. ER09-411-000
Midwest Independent Transmission System Operator, Inc. | Docket No. ER04-691-000
Ameren Services Company Northern Indiana Public Service Company | Docket No. EL07-86-000
v.
Midwest Independent Transmission System Operator, Inc.
Great Lakes Utilities, Indiana Municipal Power Agency, Missouri Joint Municipal Electric Utility Commission, Missouri River Energy Services, Prairie Power, Inc., Southern Minnesota Municipal Power Agency, Wisconsin Public Power Inc | Docket No. EL07-88-000
v.
Midwest Independent Transmission System Operator, Inc.
Wabash Valley Power Association, Inc. | Docket No. EL07-92-000
v.
Midwest Independent Transmission System Operator, Inc.

The Federal Energy Regulatory Commission (Commission) hereby gives notice that on June 10, 2009, members of its staff will participate in the Wind Integration Workshop conducted by the Midwest Independent Transmission System Operator, Inc. (Midwest ISO). The agenda and other documents for the meeting are available on the Midwest ISO's Web site, http://www.midwestiso.org.

The meeting is open to all market participants, and Commission staff's attendance is part of the Commission's ongoing outreach efforts. The meeting may discuss matters at issue in the above captioned dockets.

For further information, contact Shawn Bennett at shawn.bennett@ferc.gov, (202) 502-8930.

Kimberly D. Bose,
Secretary.

[FR Doc. E9-13961 Filed 6-12-09; 8:45 am]

BILLING CODE 6717-01-P